ENVIRONMENTAL PROTECTION AGENCY

[EPA-HQ-OPPT-2015-0505; FRL 9939-67]

Certain New Chemicals; Receipt and Status Information for October 2015

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from October 1, 2015 to October 30, 2015.

DATES: Comments identified by the specific case number provided in this document, must be received on or before January 14, 2016.

ADDRESSES: Submit your comments, identified by docket identification (ID) number EPA-HQ-OPPT-2015-0505, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD (7407M), Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from October 1, 2015 to October 30, 2015, and consists of the PMNs and TMEs both pending and/or expired, and the NOCs to manufacture a new chemical that the Agency has received under TSCA section 5 during this time period.

III. What is the agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 47 PMNs received by EPA during this period, Table 1 provides the following information (to the extent that such information is not claimed as CBI): The EPA case number assigned to the PMN; the date the PMN was received by EPA; the projected end date for EPA's review of the PMN; the submitting manufacturer/importer; the potential uses identified by the manufacturer/importer in the PMN; and the chemical identity.

Table 1—PMNs Received From October 1, 2015 to October 30, 2015
Case No. | Date received | Projected end date for EPA review | Manufacturer/ importer | Use(s) | Chemical identity
P-15-0769 | 10/30/2015 | 1/28/2016 | LUNA, Inc | (S) Binder for protective coating | (G) Polyurethane silane.
P-16-0001 | 10/1/2015 | 12/30/2015 | CBI | (G) Catalyst production of industrial intermediates | (G) Hydrolytic enzymes.
P-16-0002 | 10/1/2015 | 12/30/2015 | Allnex USA, Inc | (G) Adhesion promoting reactive binder | (G) Substituted carbomonocycle, polymer with alkanediol, substituted-alkanediol, substituted heteropolycycle and heteropolycycle.
P-16-0003 | 10/1/2015 | 12/30/2015 | CBI | (G) Catalyst | (G) Metal glycolate complex.
P-16-0004 | 10/1/2015 | 12/30/2015 | CBI | (G) Catalyst | (G) Metal glycolate complex.
P-16-0005 | 10/3/2015 | 1/1/2016 | CBI | (G) Pigment formulation additive | (G) Alkyldioic acid, polymer with alkylamine, alkyldiol and 1,3-isobenzofurandione, reaction products with fatty acid.
P-16-0006 | 10/6/2015 | 1/4/2016 | CBI | (G) Additive used in inks | (G) Alkyl alkenoic acid, polymer with cycloalkyl alkyl alkenoate, substituted alkyl alkenoate, alkyl alkyl alkenoate and substituted alkyl alkenoate.
P-16-0007 | 10/6/2015 | 1/4/2016 | Huntsman International, LLC | (S) Foam stabilizer and rheology modifier in dishwashing and carwashing detergents | (S) Fatty acids, grape seed-oil, esters with polyethylene glycol ether with glycerol (3:1).
P-16-0008 | 10/6/2015 | 1/4/2016 | Huntsman International, LLC | (S) Foam stabilizer and rheology modifier in dishwashing and carwashing detergents | (S) Fatty acids, grape seed-oil, esters with polyethylene glycol ether with glycerol (3:1).
P-16-0009 | 10/6/2015 | 1/4/2016 | Huntsman International, LLC | (S) Foam stabilizer and rheology modifier in dishwashing and carwashing detergents | (S) Fatty acids, castor-oil, esters with polyethylene glycol ether with glycerol (3:1).
P-16-0010 | 10/6/2015 | 1/4/2016 | Huntsman International, LLC | (S) Foam stabilizer and rheology modifier in dishwashing and carwashing detergents | (S) Fatty acids, sunflower-oil, esters with polyethylene glycol ether with glycerol (3:1).
P-16-0011 | 10/6/2015 | 1/4/2016 | Huntsman International, LLC | (S) Foam stabilizer and rheology modifier in dishwashing and carwashing detergents | (S) Fatty acids, hemp seed-oil, esters with polyethylene glycol ether with glycerol (3:1).
P-16-0012 | 10/6/2015 | 1/4/2016 | Huntsman International, LLC | (S) Foam stabilizer and rheology modifier in dishwashing and carwashing detergents | (S) Fatty acids, canola-oil, esters with polyethylene glycol ether with glycerol (3:1).
P-16-0014 | 10/7/2015 | 1/5/2016 | CBI | (G) Ink additive | (G) Metalloid, tris[dialkylphenyl]-dialkyl-dioxoalkane-carbopolycyclicdisulfonate.
P-16-0017 | 10/8/2015 | 1/6/2016 | Alcoa, Inc | (S) Blast suppressor for nitrogen based fertilizers | (G) Mixed metals layered double hydroxide.
P-16-0018 | 10/9/2015 | 1/7/2016 | CBI | (G) Binders for fibrous materials | (G) Polyethyleneglycol modified polyacrylate, compd. with alcohol amine.
P-16-0019 | 10/9/2015 | 1/7/2016 | CBI | (G) Binders for fibrous materials | (G) Polyethyleneglycol modified polyacrylate, compd. with alcohol amine.
P-16-0020 | 10/9/2015 | 1/7/2016 | CBI | (G) Binders for fibrous materials | (G) Polyethyleneglycol modified polyacrylate, compd. with alcohol amine.
P-16-0021 | 10/9/2015 | 1/7/2016 | CBI | (G) Component of soil improvement product | (G) Polycarbomonocyclic carboxylic acid polyol, polymer with alkenoate and alkenoic acid.
P-16-0022 | 10/15/2015 | 1/13/2016 | CBI | (S) Reagent for production of metal salts (carboxylates, for paint and ink dries, UPR promoters, lube/grease additives, fuel additives polymerization catalysts, specialty petrochemicals catalysts, etc | (S) C10-C20 neo fatty acids.
P-16-0023 | 10/13/2015 | 1/11/2016 | CBI | (S) Intermediate for epoxy curing agent | (G) 2-Propenenitrile, reaction products with polyalkylenepolyamine, hydrogenated.
P-16-0024 | 10/13/2015 | 1/11/2016 | CBI | (G) Precursor for use in the electronics industry | (G) Silanediamine, N,N,N′,N′-tetraalkyl-.
P-16-0025 | 10/13/2015 | 1/11/2016 | BASF CORPORATION | (G) Resin for use in electrocoats | (G) Amine functional epoxy.
P-16-0026 | 10/13/2015 | 1/11/2016 | BASF CORPORATION | (G) Resin for use in electrocoats | (G) Amine functional epoxy, organic acid salt.
P-16-0027 | 10/13/2015 | 1/11/2016 | BASF Corporation | (G) Resin for use in electrocoats | (G) Amine functional epoxy, organic acid salt.
P-16-0028 | 10/13/2015 | 1/11/2016 | BASF Corporation | (G) Resin for use in electrocoats | (G) Amine functional epoxy, organic acid salt.
P-16-0029 | 10/14/2015 | 1/12/2016 | CBI | (G) Lubricant additive | (G) 2,5-Furandione, polymer with ethene and 1-propene, amine ether imide.
P-16-0030 | 10/14/2015 | 1/12/2016 | HENKEL Corporation | (G) A curing agent in anaerobic adhesive and sealant formulations | (S) 1,2-cyclohexanedicarboxylic acid, 1-(2-phenylhydrazide).
P-16-0031 | 10/15/2015 | 1/13/2016 | CBI | (G) The polymeric material will be produced and sold to customers in pellet form, customer will then compound the polymer and impregnate it with various diffusible species | (G) Oxirane, alkyl hydroxypoly(oxy-1,2-ethanediyl), alkyl bis[4-isocyanatocyclohexane] and oxirane.
P-16-0034 | 10/16/2015 | 1/14/2016 | CARDOLITE Corporation | (G) Cashew nutshell liquid based, 100% solids epoxy hardener for water borne epoxy coating formulations | (G) Cashew nutshell liquid polymer with epichlorhydrin, formaldehyde, phenol, amines and glycol.
P-16-0035 | 10/16/2015 | 1/14/2016 | CARDOLITE Corporation | (G) Cashew nutshell liquid based 100% solids epoxy hardener for higher solids epoxy coating formulation | (G) Cashew nutshell liquid polymer with amine and formaldehyde.
P-16-0036 | 10/16/2015 | 1/14/2016 | CBI | (G) Reactant used in polymer synthesis | (G) Substituted heteropolycycle.
P-16-0038 | 10/19/2015 | 1/17/2016 | Shin Etsu silicones of America | (G) The composition Incuding the new chemical substance hardens by heating | (G) Fluorined organopolysiloxane.
P-16-0039 | 10/20/2015 | 1/18/2016 | CBI | (G) Acrylic pressure sensitive adhesive | (G) Alkyl acrylate-alkyl acrylamide copolymer.
P-16-0040 | 10/27/2015 | 1/25/2016 | CBI | (G) Polymer | (G) Tar acids fraction.
P-16-0041 | 10/21/2015 | 1/19/2016 | CBI | (G) Additive, open, non-dispersive use | (G) Alkohol alkoxylate.
P-16-0042 | 10/21/2015 | 1/19/2016 | CBI | (G) Additive, open, non-dispersive use | (G) Polyammonium salt of a fatty acid.
P-16-0043 | 10/22/2015 | 1/20/2016 | Akzo Nobel Surface Chemistry, LLC | (S) Polymeric corrosion inhibitor downhole oil field | (S) Amines, tallow alkyl, ethoxylated, polymers with adipic acid.
P-16-0044 | 10/30/2015 | 1/28/2016 | CBI | (G) Industrial coating | (G) Isocyanate functional urethane prepolymer.
P-16-0045 | 10/23/2015 | 1/21/2016 | CBI | (G) Fertilizer component | (G) Sugar alcohol salt.
P-16-0046 | 10/28/2015 | 1/26/2016 | CBI | (G) Use in laser marking additives for polyolefines | (G) Aromatic derivative, polymer with alkyl diol, alkene and oxiranylalkyl-alkyl-alkyl ester.
P-16-0047 | 10/27/2015 | 1/25/2016 | CBI | (S) Modifier in composites | (G) Aromatic polyimide.
P-16-0047 | 10/27/2015 | 1/25/2016 | CBI | (S) Parts and shapes process by sintering | (G) Aromatic polyimide.
P-16-0047 | 10/27/2015 | 1/25/2016 | CBI | (S) Parts and shapes (compounds) | (G) Aromatic polyimide.
P-16-0047 | 10/27/2015 | 1/25/2016 | CBI | (S) Filler in thermoplastic or grease | (G) Aromatic polyimide.
P-16-0048 | 10/27/2015 | 1/25/2016 | CBI | (S) Extrusion of tubing systems | (G) Polyamide 6T/612 polymer of aliphatic/aromatic dicarboxylic acid and alkane diamine.
P-16-0048 | 10/27/2015 | 1/25/2016 | CBI | (S) Injection molding of special applications | (G) Polyamide 6T/612 polymer of aliphatic/aromatic dicarboxylic acid and alkane diamine.

For the 38 NOCs received by EPA during this period, Table 2 provides the following information (to the extent that such information is not claimed as CBI): The EPA case number assigned to the NOC; the date the NOC was received by EPA; the projected date of commencement provided by the submitter in the NOC; and the chemical identity.

Table 2—NOCs Received From October 1, 2015 to October 30, 2015
Case No. | Date received | Projected date of commencement | Chemical identity
P-08-0029 | 10/13/2015 | 9/15/2015 | (G) Alkylated phenols.
P-11-0178 | 10/5/2015 | 9/18/2015 | (S) Hexane, 1,6-diisocyanato-, homopolymer, di-Et malonate- and 3,5-dimethyl-1H-pyrazole- blocked.
P-12-0450 | 10/1/2015 | 9/14/2015 | (G) Partially fluorinated alcohol, reaction products with phosphorus oxide (P2O5), amine salts.
P-13-0781 | 10/1/2015 | 9/29/2015 | (S) Benzene, (4-bromobutoxy)-.
P-14-0284 | 10/29/2015 | 10/3/2015 | (G) Magenta dye.
P-14-0333 | 10/13/2015 | 10/5/2015 | (S) 2-Propenoic acid, heptadecyl ester, branched.
P-14-0483 | 10/4/2015 | 9/29/2015 | (G) Carbomonocyclic dicarboxylic acid, polymer with diisocyanatoalkane, alkyldiol, alkyldiol, alkanedioic acid, alkanediol, alkenoic acid and 1,3 isobenzofurandione, compd, with aminoalcohol.
P-14-0523 | 10/9/2015 | 9/15/2015 | (G) Copolymers of perfluorinated and alkyl methacrylates.
P-14-0552 | 10/28/2015 | 10/16/2015 | (S) Poly(oxy-1,4-butanediyl), .alpha.-hydro-.omega..-hydroxy-, polymer with .alpha.-hydro-.omega.-hydroxypoly(oxy-1,2-ethanediyl) and 1,1'-methylenebis[4-isocyanatocyclohexane].
P-15-0054 | 10/28/2015 | 9/30/2015 | (G) Carbon nanotubes powder.
P-15-0056 | 10/20/2015 | 9/30/2015 | (S) Furan, 5-(hexyloxy)tetrahydro-2,2-dimethyl-.
P-15-0076 | 10/22/2015 | 10/6/2015 | (G) Polyamic acid.
P-15-0077 | 10/22/2015 | 10/6/2015 | (G) Polyamic acid.
P-15-0078 | 10/22/2015 | 10/6/2015 | (G) Polyamid acid.
P-15-0254 | 10/22/2015 | 10/6/2015 | (G) Amic acid.
P-15-0255 | 10/22/2015 | 10/6/2015 | (G) Polyamic acid.
P-15-0256 | 10/22/2015 | 10/6/2015 | (G) Polyamic acid.
P-15-0257 | 10/22/2015 | 10/6/2015 | (G) Polyamic acid.
P-15-0258 | 10/22/2015 | 10/6/2015 | (G) Polyamic acid.
P-15-0260 | 10/22/2015 | 10/6/2015 | (G) Polyamic acid.
P-15-0261 | 10/22/2015 | 10/6/2015 | (G) Polyamid acid.
P-15-0262 | 10/22/2015 | 10/6/2015 | (G) Polyamic acid.
P-15-0346 | 10/8/2015 | 10/2/2015 | (G) Polyurethane adduct.
P-15-0393 | 10/16/2015 | 9/21/2015 | (G) Alkanedioic acid, polymer with alkanediol .alpha.-hydro-.omega.-hydroxypoly[oxy(alkyl)] and alkyl aromatic diisocyanate.
P-15-0492 | 10/13/2015 | 9/15/2015 | (G) Polymethylsiloxane, distillation residues.
P-15-0507 | 10/6/2015 | 10/6/2015 | (S) Borate(1-), tetrahydro-, sodium (1:1), reaction products with reduced polymd. oxidized tetrafluoroethylene, hydrolyzed, diallyl ethers, polymers with 2,4,6,8-tetramethylcyclotetrasiloxane, si-(8,13-dioxo-4,7,12-trioxa-9-azapentadec-14-1-yl) derivs.
P-15-0522 | 10/20/2015 | 10/15/2015 | (G) Metal, phthalocyaninato(2-)-, halogenated.
P-15-0523 | 10/27/2015 | 9/30/2015 | (G) Carbohydrates, polymer with amine compound.
P-15-0532 | 10/16/2015 | 10/2/2015 | (G) Substituted alkenoic acid, alkyl ester, polymer with substituted alkenoate and alkenoic acid, alkyl peroxide-initiated.
P-15-0533 | 10/16/2015 | 10/2/2015 | (G) Substituted heteropolycycle, polymer with substituted alkyldiols, and substituted heteropolycycle, substituted alkanoate.
P-15-0543 | 10/1/2015 | 9/18/2015 | (G) Phosphoric acid, mixed salt.
P-15-0559 | 10/20/2015 | 10/3/2015 | (G) Polymeric diphenylmethane diisocyanate prepolymer.
P-15-0566 | 10/26/2015 | 9/29/2015 | (G) Alkanedioic acid, polymer with substituted carbomonocycles, alkyl substituted alkanediol, substituted alkanoic acid, and substituted alkanediamine, substituted alkanamine-blocked, compds. with alkylamine.
P-15-0588 | 10/27/2015 | 10/23/2015 | (G) Alkenoic acid, polymer with substituted heteromonocycle, substituted carbomonocycle, 2-alkyl-2-hydroxyalkyl-1,3-alkanediol 1-alkylalkenyl carbomonocycle, alkali metal salt.
P-15-0589 | 10/27/2015 | 10/23/2015 | (S) 2-Propenoic acid, polymer with 2-(chloromethyl)oxirane, ethenylbenzene, 2-ethyl-2-(hydroxymethyl)-1,3-propanediol and (1-methylethenyl)benzene, potassium sodium salt.
P-15-0598 | 10/21/2015 | 10/20/2015 | (G) Substituted alkanoic acid, polymer with substituted polypropylene, substituted carbomonocyle, dialkyl carbonate, alkanediol and substituted carbopolycycle, compd. with dialkylamino alkanol.
P-15-0599 | 10/26/2015 | 10/23/2015 | (G) Hetero substituted alkyl acrylate polymer.
P-15-0600 | 10/30/2015 | 10/13/2015 | (G) Poly(hydroxyalkanoate).

Authority: 15 U.S.C. 2601 et seq.

Dated: December 9, 2015.
Megan J. Carroll,
Acting, Information Management Division, Office of Pollution Prevention and Toxics.

[FR Doc. 2015-31522 Filed 12-14-15; 8:45 am]

BILLING CODE 6560-50-P